DEPARTMENT OF COMMERCE

International Trade Administration

[A-533-813 and A-560-802]

Certain Preserved Mushrooms From India and Indonesia: Notice of Extension of Time Limit for Preliminary Results of Antidumping Duty Administrative Review

AGENCY: Import Administration, International Trade Administration, Department of Commerce.

ACTION: Notice of extension of time limit for preliminary results of antidumping duty administrative review.

EFFECTIVE DATE: July 28, 2000.

FOR FURTHER INFORMATION CONTACT: David J. Goldberger or Katherine Johnson, AD/CVD Enforcement, Import Administration, International Trade Administration, U.S. Department of Commerce, 14th Street and Constitution Avenue, NW, Washington, DC 20230; telephone: (202) 482-4136 and (202) 482-4929 respectively.

The Applicable Statute

Unless otherwise indicated, all citations to the statute are references to the provisions effective January 1, 1995, the effective date of the amendments made to the Tariff Act of 1930 (the Act) by the Uruguay Round Agreements Act. In addition, unless otherwise indicated, all citations to the Department of Commerce's (“the Department's”) regulations are to 19 CFR part 351 (1999).

Statutory Time Limits

Section 751(a)(3)(A) of the Tariff Act of 1930, as amended (the Act), requires the Department to make a preliminary determination within 245 days after the last day of the anniversary month of an order/finding for which a review is requested, and a final determination within 120 days after the date on which the preliminary determination is published. However, if it is not practicable to complete the review within these time periods, section 751(a)(3)(A) of the Act allows the Department to extend the time limit for the preliminary determination to a maximum of 365 days and for the final determination to 180 days (or 300 days if the Department does not extend the time limit for the preliminary determination) from the date of publication of the preliminary determination.

Background

On March 30, 2000, the Department published a notice of initiation of administrative reviews of the antidumping duty orders on Certain Preserved Mushrooms from India and Indonesia, covering the period August 5, 1998, through January 31, 2000 (65 FR 16875). The preliminary results for each review are currently due no later than October 31, 2000.

Extension of Time Limit for Preliminary Results

The Department has determined that it is not practicable to complete the Indian and Indonesian reviews within the time limit mandated by section 751(a)(3)(A) of the Act. Following initiation of these administrative reviews, we received allegations of sales below cost of production for certain respondents in both the India and Indonesia reviews. We have completed our analysis of the cost allegations and are in the process of conducting the cost investigations for these respondents, and of analyzing the cost of production and/or constructed value data submitted by the remaining respondents. In addition, we are conducting concurrently an administrative review and a new shipper review of the antidumping duty order on Certain Preserved Mushrooms from the People's Republic of China. Given the number of respondents involved in all of these reviews, the potential complexity of the issues, and the administrative constraints on the Department, we are unable to complete our preliminary analyses of the India and Indonesia reviews before the current deadline. Therefore, the Department is extending the time limit for the preliminary results in these two reviews to February 28, 2001. The Department intends to issue the final results of the reviews 120 days after the publication of the preliminary results. This extension of the time limit is in accordance with section 751(a)(3)(A) of the Act and 19 CFR 351.213(h)(2).

Dated: July 24, 2000.
Susan Kuhbach,
Acting Deputy Assistant Secretary for Import Administration.

[FR Doc. 00-19157 Filed 7-27-00; 8:45 am]

BILLING CODE 3510-DS-P